DEPARTMENT OF THE INTERIOR

Bureau of Land Management

[UT-930-1610-DO]

Utah Bureau of Land Management Price Field Office Resource Management Plan and the Richfield Field Office Resource Management Plan; Extension of Scoping Periods.

AGENCY: Bureau of Land Management, Interior.

ACTION: Notice of extension of scoping periods.

SUMMARY: The Price Field Office and Richfield Field Office published Notices of Intent to prepare Resource Management Plans (RMP) in the Federal Register on November 7 and November 1, 2001 respectively. These notices officially started the scoping process for each planning area.

Since that time, the public has expressed an interest in extending the scoping period for each of these plans. In order to be responsive to the public, the Utah Bureau of Land Management (BLM) hereby extends the scoping periods for both of the above mentioned plans.

Comments, including names and addresses of respondents, will be available for public review at the BLM offices listed in this notice during regular business hours. If you wish to withhold your name and or address from public review or from disclosure under the Freedom of Information Act, you must state so prominently at the beginning of your written comments.

Public notification of scoping meetings and open houses will be made in local and regional publications at least 15 days prior to the meetings being held. Meetings are expected to be held in locally affected communities as well as the Wasatch Front area.

Even though the formal scoping period ends on the dates described below, opportunities to get involved in planning are still available for all of our planning efforts. You are welcome at any time to contact our offices which are involved in planning. Our ability to consider your input will become more limited the closer we get to alternative development and analysis. These phases are expected to begin in late summer and fall of 2002.

DATES: The scoping period for the Price Field Office Resource Management Plan is extended to February 1, 2002. The scoping period for the Richfield Field Office Resource Management Plan is extended to April 1, 2002. All comments regarding issues, concerns, resource values, or considerations for alternative development are due by the dates listed above and will be summarized in a forthcoming Scoping Summary Report.

ADDRESSES: For the Richfield Field Office Resource Management Plan, written comments should be sent to RMP Comments, Bureau of Land Management, Richfield Field Office, 150 East 900 North, Richfield Utah 84701; or faxed at 1-435-896-1550. For the Price Field Office Resource Management Plan, written comments should be sent to RMP Comments, Bureau of Land Management, Price Field Office, 125 South 600 West, Price, Utah 84501; or faxed at 1-435-636-3657.

Documents pertinent to these proposals including public comment may be examined at either BLM Field Office during regular business hours; 8 a.m. to 4:30 p.m., Monday through Friday.

FOR FURTHER INFORMATION CONTACT: If you are interested in the Price Field Office RMP, contact Floyd Johnson, Supervisory Planning Coordinator at 1-435-636-3600 or e-mail floyd_johnson@ut.blm.gov. If you are interested in the Richfield Field Office RMP, contact Frank Erickson, Assistant Field Manager for Planning at 1-435-896-1532 or e-mail frank_erickson@ut.blm.gov.

Dated: December 19, 2001.
Sally Wisely,
Utah State Director.

[FR Doc. 02-1381 Filed 1-17-02; 8:45 am]

BILLING CODE 4310-$$-P